DEPARTMENT OF TRANSPORTATION

Federal Aviation Administration

14 CFR Part 71

[Docket No. FAA-2007-29361; Airspace Docket 07-AEA-5]

Amendment of Class E Airspace; Factoryville, PA

AGENCY: Federal Aviation Administration (FAA), DOT.

ACTION: Final rule.

SUMMARY: This action amends the Class E airspace area at Factoryville, PA, to provide additional controlled airspace accommodating a new Runway 4 Standard Instrument Approach Procedure (SIAP) developed for Seamans Field, Factoryville, PA. This action increases the radius of the current Class E airspace and includes airspace on each side of the Lake Henry VORTAC 299° radial extending to the VORTAC.

DATES: 0901 UTC, November 25, 2008. The Director of the Federal Register approves this incorporation by reference action under title 1, Code of Federal Regulations, part 51, subject to the annual revision of FAA Order 7400.9 and publication of conforming amendments.

FOR FURTHER INFORMATION CONTACT: Melinda Giddens, System Support, Eastern Service Center, Federal Aviation Administration, P.O. Box 20636, Atlanta, Georgia 30320; telephone (404) 305-5610.

SUPPLEMENTARY INFORMATION:

History

On January 31, 2008, the FAA published in the Federal Register a Notice of Proposed Rulemaking to amend Title 14 of the Code of Federal Regulations (14 CFR) part 71 by modifying Class E airspace at Factoryville, PA (73 FR 5778). The proposed action was to accommodate a new SIAP for Runway 4 by expanding the Class E airspace for Seamans Field.

Interested parties were invited to participate in this rulemaking proceeding by submitting written comments on the proposal to the FAA. No comments objecting to the proposal were received.

The Rule

This amendment to Title 14, Code of Federal Regulations (14 CFR) part 71 provides additional controlled airspace to accommodate a new Runway 4 SIAP developed for Seamans Field. This action increases current Class E airspace from a 6.2-mile radius to an 8.2-mile radius of Seamans Field and includes the airspace within 5.3 miles each side of the Lake Henry VORTAC 299° radial extending from the 8.2-mile radius of Seamans Field to the VORTAC. Airspace designations for Class E airspace areas extending upward from 700 feet or more above the surface of the earth are published in Paragraph 6005 of FAA Order 7400.9R, signed August 15, 2007, and effective September 15, 2007, which is incorporated by reference in 14 CFR 71.1. The Class E airspace designation listed in this document will be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in the Title 49 of the United States Code. Subtitle I, Section 106 describes the authority of the FAA administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it amends Class E Airspace at Factoryville, PA.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, and effective September 15, 2007, is amended as follows:

Paragraph 6005 Class E Airspace Areas Extending Upward from 700 feet or More Above the Surface of the Earth.

* * * * *

AEA PA E5 Factoryville, PA [AMENDED]

Seamans Field, PA

(Lat. 41°35′22″ N., long. 75°45′22″ W.)

Lake Henry VORTAC

(Lat. 41°28′33″ N., long. 75°28′57″ W.)

That airspace extending upward from 700 feet above the surface within an 8.2-mile radius of Seamans Field and including the airspace within 5.3 miles each side of the Lake Henry VORTAC 299° radial extending from the 8.2-mile radius of Seamans Field to the VORTAC.

* * * * *

Issued in College Park, Georgia, on August 4, 2008.
Mark D. Ward,
Manager, Operations Support Group, Eastern Service Center, Air Traffic Organization.

[FR Doc. E8-19569 Filed 8-27-08; 8:45 am]

BILLING CODE 4910-13-M